DEPARTMENT OF THE INTERIOR

Fish and Wildlife Service

[FWS-R6-ES-2017-N031; FF06E11000-178-FXES111606C0000]

Endangered and Threatened Wildlife and Plants; Enhancement of Survival Permit Application; Centennial Valley Arctic Grayling Candidate Conservation Agreement With Assurances, and Draft Environmental Assessment

AGENCY: Fish and Wildlife Service, Interior.

ACTION: Notice of availability; request for comments.

SUMMARY: We, the U.S. Fish and Wildlife Service (Service), are announcing the availability of the following documents for review and comment by the public and Federal, Tribal, State, and local governments:

• Candidate Conservation Agreement with Assurances for Arctic Grayling in the Centennial Valley, Montana (Centennial Valley CCAA), and

• Draft Environment Assessment of the Centennial Valley CCAA (EA).

The Service, Montana Fish, Wildlife and Parks (MFWP), and local partners prepared the draft Centennial Valley CCAA to give non-Federal landowners the opportunity to voluntarily conserve Arctic grayling (a fish species) and its habitat in the Centennial Valley, Montana. The MFWP is applying for an enhancement of survival permit under the ESA to enroll landowners in the Centennial Valley CCAA. To comply with the National Environmental Policy Act, the Service prepared the draft EA.

DATES: Written comments must be submitted by June 28, 2018.

ADDRESSES: To request further information or send written comments, please use one of the following methods, and note that your information request or comments are in reference to the Centennial Valley CCAA.

○ Internet: Documents may be viewed on the internet at https://www.fws.gov/mountain-prairie/ea/newsAndReleases.php.

○ U.S. Mail: James Boyd, Fish and Wildlife Biologist, Montana Ecological Services Field Office, U.S. Fish and Wildlife Service, 585 Shepard Way, Suite 1, Helena, MT 59601.

○ Email: james_boyd@fws.gov. Include “Centennial Valley CCAA” in the subject line of the message.

○ In-Person Viewing or Pickup: Documents will be available for public inspection by appointment (406-547-5225, ext. 216) during normal business hours at the U.S. Fish and Wildlife Service, Montana Field Office, 585 Shepard Way, Suite 1, Helena, MT 59601.

FOR FURTHER INFORMATION CONTACT: James Boyd, Montana Ecological Services Field Office (see ADDRESSES), telephone: 406-547-6008; or email: james_boyd@fws.gov. If you use a telecommunications device for the deaf, please call the Federal Relay Service at 800-877-8339.

SUPPLEMENTARY INFORMATION: We, the U.S. Fish and Wildlife Service (Service), are announcing the availability of the following documents for review and comment by the public and Federal, Tribal, State, and local governments:

• Candidate Conservation Agreement with Assurances for Arctic Grayling in the Centennial Valley, Montana (Centennial Valley CCAA), and

• Draft Environment Assessment of the Centennial Valley CCAA (EA).

The Service, Montana Fish, Wildlife and Parks (MFWP), and local partners prepared the Centennial Valley CCAA to give non-Federal landowners the opportunity to voluntarily conserve Arctic grayling (a fish species) and its habitat in the Centennial Valley, Montana. Participating landowners would implement certain conservation measures to reduce or eliminate threats to the Arctic grayling on their property related to ranching activities and associated water uses. In return, the Service would give participating landowners regulatory assurances that it will not impose land or water use restrictions or conservation requirements beyond those in the CCAA, if the Arctic grayling becomes listed under the Endangered Species Act (ESA). MFWP is applying for an enhancement of survival permit under the ESA, to enroll landowners in the Centennial Valley CCAA with certificates of inclusion. To comply with the National Environmental Policy Act (NEPA), we prepared a draft EA that analyzes potential impacts to the human environment from the proposed Centennial Valley CCAA and a no-action alternative.

We determined that the Upper Missouri River Distinct Population Segment of the Arctic grayling was not warranted for listing under the ESA, and announced that finding in the Federal Register on August 20, 2014 (79 FR 49384). However, Federal and State resource agencies, nongovernmental conservation organizations, and private landowners are continuing conservation efforts for the Arctic grayling in Montana. Although the Arctic grayling is not currently a candidate species, our regulations at 50 CFR 17.22(d)(1) and our CCAA policy (December 27, 2016; 81 FR 95169) encourage the conservation of at-risk species.

The population of Arctic grayling in the Centennial Valley in Beaverhead County, Montana, is increasing in distribution in and around Red Rock Lakes National Wildlife Refuge (Refuge). However, reduced stream flows, degraded and non-functioning instream and riparian habitats, barriers to Arctic grayling movement, and entrainment of Arctic grayling in irrigation ditches on non-Federal lands surrounding the Refuge are likely inhibiting further increases in distribution and abundance in the Centennial Valley. Thus, the Service and MFWP developed the programmatic Candidate Conservation Agreement with Assurances (CCAA) for Arctic Grayling in the Centennial Valley, to encourage landowners to voluntarily implement conservation measures to alleviate these limiting factors on their properties.

A CCAA is an agreement between the Service, partners, and landowners for voluntary management of non-Federal lands to remove or reduce threats to species that may become listed under the ESA. In return for implementing conservation measures in a CCAA, the Service gives participants assurances that, should the covered species become listed, the Service would not impose land, water, or resource use restrictions or conservation requirements beyond those agreed to in the CCAA.

Under the Centennial Valley CCAA, the Service would issue MFWP an Enhancement of Survival Permit (permit) under section 10(a)(1)(A) of the ESA effective for 20 years. MFWP would enroll interested non-Federal landowners under the permit with Certificates of Inclusion (CI) contingent on development of a site-specific conservation plan for the enrolled property. The CI would convey to the enrolled landowner a specified level of authorized take of Arctic grayling that may result from implementation of the conservation measures in the site-specific plan, if and when the species becomes listed.

National Environmental Policy Act Compliance

The proposed issuance of a permit with its associated CCAA is a Federal action that requires us to comply with the National Environmental Policy Act (NEPA; 42 U.S.C. 4321 et seq.). Therefore, we prepared a draft environmental assessment that evaluates the potential impacts of issuing the permit and implementing the Centennial Valley CCAA on the human environment. We are requesting a 30-day public review and comment on drafts of the EA and CCAA (see DATES and ADDRESSES).

Public Comments

You may submit your comments and materials by one of the methods listed in the ADDRESSES section. We request data, comments, new information, or suggestions from the public, other concerned governmental agencies, the scientific community, Tribes, industry, or any other interested party on our proposed Federal action.

Public Availability of Comments

All comments and materials we receive become part of the public record associated with this action. Before including your address, phone number, email address, or other personally identifiable information (PII) in your comments, you should be aware that your entire comment—including your PII—may be made publicly available at any time. While you can ask us in your comment to withhold your PII from public review, we cannot guarantee that we will be able to do so. Comments and materials we receive, as well as supporting documentation we use in preparing the EA, will be available for public inspection by appointment, during normal business hours, at our Montana Field Office (see ADDRESSES).

Next Steps

After reviewing public comments, we will evaluate whether the proposed action in the draft EA is adequate to support a finding of no significant impact under NEPA or we should prepare an environmental impact statement. As part of the basis for that determination, we will conduct an intra-Service consultation under section 7(a)(2) of the ESA to determine whether the proposed permit action and CCAA would jeopardize the continued existence of the Arctic grayling or any other candidate, proposed, or listed species that may be affected. We will then determine whether implementation of the proposed CCAA would meet the requirements for issuance of a section 10(a)(1)(A) permit (50 CFR 17.22(d)(2)). We will not make our final decision until after the end of the 30-day public comment period, and we will fully consider all comments we receive during the public comment period.

Authority

We provide this notice in accordance with the requirements of section 10(c) of the ESA (16 U.S.C. 1531 et seq.), and NEPA (42 U.S.C. 4321 et seq.) and their implementing regulations (50 CFR 17.22 and 17.32; 40 CFR 1506.6 and 43 CFR 46, respectively).

Marjorie Nelson,
Chief—Ecological Services, Mountain-Prairie Region, U.S. Fish and Wildlife Service, Lakewood, Colorado.

[FR Doc. 2018-11367 Filed 5-25-18; 8:45 am]

BILLING CODE 4333-15-P